Proclamation 8771 of December 29, 2011

To Modify the Harmonized Tariff Schedule of the United States and for Other Purposes

By the President of the United States of America

A Proclamation

1. Section 1205(a) of the Omnibus Trade and Competitiveness Act of 1988 (the “1988 Act”) (19 U.S.C. 3005(a)) directs the United States International Trade Commission (the “Commission”) to keep the Harmonized Tariff Schedule of the United States (HTS) under continuous review and periodically to recommend to the President such modifications to the HTS as the Commission considers necessary or appropriate to accomplish the purposes set forth in that subsection. The Commission has recommended modifications to the HTS pursuant to sections 1205(c) and (d) of the 1988 Act (19 U.S.C. 3005(c) and (d)) to conform the HTS to amendments made to the International Convention on the Harmonized Commodity Description and Coding System (the “Convention”).

2. Section 1206(a) of the 1988 Act (19 U.S.C. 3006(a)) authorizes the President to proclaim modifications to the HTS based on the recommendations of the Commission under section 1205 of the 1988 Act, if he determines that the modifications are in conformity with United States obligations under the Convention and do not run counter to the national economic interest of the United States. I have determined that the modifications to the HTS proclaimed in this proclamation pursuant to section 1206(a) of the 1988 Act are in conformity with United States obligations under the Convention and do not run counter to the national economic interest of the United States.

3. Presidential Proclamation 6763 of December 23, 1994, implemented with respect to the United States, the trade agreements resulting from the Uruguay Round of multilateral trade negotiations, including Schedule XX-United States of America, annexed to the Marrakesh Protocol to the General Agreement on Tariffs and Trade 1994 (Schedule XX), that were entered into pursuant to sections 1102(a) and (e) of the 1988 Act (19 U.S.C. 2902(a) and (e)), and approved in section 101(a) of the Uruguay Round Agreements Act (URAA) (19 U.S.C. 3511(a)).

4. Pursuant to the authority provided in section 111 of the URAA (19 U.S.C. 3521) and sections 1102(a) and (e) of the 1988 Act, Proclamation 6763 included the staged reductions in rates of duty that the President determined to be necessary or appropriate to carry out the terms of Schedule XX. In order to ensure the continuation of such rates of duty for imported goods under tariff categories that are being modified to reflect the amendments to the Convention, I have determined that additional modifications to the HTS are necessary or appropriate to carry out the duty reductions previously proclaimed, including certain technical or conforming changes within the tariff schedule.

5. Presidential Proclamation 7747 of December 30, 2003, implemented the United States-Singapore Free Trade Agreement (USSFTA) with respect to the United States and, pursuant to section 201 of the United States-Singapore Free Trade Agreement Implementation Act (the “USSFTA Act”) (19 U.S.C. 3805 note), the staged reductions in rates of duty that the President determined to be necessary or appropriate to carry out or apply articles 2.2, 2.5, 2.6, and 2.12 of the USSFTA and the schedule of reductions with respect to the Republic of Singapore set forth in Annex 2B of the USSFTA. In order to ensure the continuation of such staged reductions in rates of duty for originating goods under tariff categories that are being modified to reflect the amendments to the Convention, I have determined that additional modifications to the HTS are necessary or appropriate to carry out the duty reductions previously proclaimed.

6. Presidential Proclamation 7746 of December 30, 2003, implemented the United States-Chile Free Trade Agreement (USCFTA) with respect to the United States and, pursuant to section 201 of the United States-Chile Free Trade Agreement Implementation Act (the “CFTA Act”) (19 U.S.C. 3805 note), the staged reductions in rates of duty that the President determined to be necessary or appropriate to carry out or apply articles 3.3 (including the schedule of United States duty reductions with respect to originating goods set forth in Annex 3.3 to the USCFTA), 3.7, 3.9, and 3.20(8), (9), (10), and (11) of the USCFTA. In order to ensure the continuation of such staged reductions in rates of duty for originating goods under tariff categories that are being modified to reflect the amendments to the Convention, I have determined that additional modifications to the HTS are necessary or appropriate to carry out the duty reductions previously proclaimed.

7. Presidential Proclamation 7857 of December 20, 2004, implemented the United States-Australia Free Trade Agreement (USAFTA) with respect to the United States and, pursuant to section 201 of the United States-Australia Free Trade Agreement Implementation Act (the “USAFTA Act”) (19 U.S.C. 3805 note), the staged reductions in rates of duty that the President determined to be necessary or appropriate to carry out or apply articles 2.3, 2.5, and 2.6 of the USAFTA and the schedule of reductions with respect to Australia set forth in Annex 2B of the USAFTA. In order to ensure the continuation of such staged reductions in rates of duty for originating goods under tariff categories that are being modified to reflect the amendments to the Convention, I have determined that additional modifications to the HTS are necessary or appropriate to carry out the duty reductions previously proclaimed.

8. Presidential Proclamation 7971 of December 22, 2005, implemented the United States-Morocco Free Trade Agreement (USMFTA) with respect to the United States and, pursuant to section 201 of the United States-Morocco Free Trade Agreement Implementation Act (the “USMFTA Act”) (19 U.S.C. 3805 note), the staged reductions in rates of duty that the President determined to be necessary or appropriate to carry out or apply articles 2.3, 2.5, 2.6, 4.1, 4.3.9, 4.3.10, 4.3.11, 4.3.13, 4.3.14, and 4.3.15 of the USMFTA and the schedule of reductions with respect to Morocco set forth in Annex IV of the USMFTA. In order to ensure the continuation of such staged reductions in rates of duty for originating goods under tariff categories that are being modified to reflect the amendments to the Convention, I have determined that additional modifications to the HTS are necessary or appropriate to carry out the duty reductions previously proclaimed.

9. Presidential Proclamations 7987 of February 28, 2006, 7991 of March 24, 2006, 7996 of March 31, 2006, 8034 of June 30, 2006, 8111 of February 28, 2007, 8331 of December 23, 2008, and 8536 of June 12, 2010, implemented the Dominican Republic-Central America-United States Free Trade Agreement (the “CAFTA-DR Agreement”) with respect to the United States and, pursuant to section 201 of the Dominican Republic-Central America-United States Free Trade Agreement Implementation Act (the “CAFTA-DR Act”) (19 U.S.C. 4031), the staged reductions in rates of duty that the President determined to be necessary or appropriate to carry out or apply articles 3.3, 3.5, 3.6, 3.21, 3.26, 3.27, and 3.28, and Annexes 3.3 (including the schedule of the United States duty reductions with respect to originating goods), 3.27, and 3.28 of the CAFTA-DR Agreement. In order to ensure the continuation of such staged reductions in rates of duty for originating goods under tariff categories that are being modified to reflect the amendments to the Convention, I have determined that additional modifications to the HTS are necessary or appropriate to carry out the duty reductions previously proclaimed.

10. Presidential Proclamation 8039 of July 27, 2006, implemented the United States-Bahrain Free Trade Agreement (USBFTA) with respect to the United States and, pursuant to section 201 of the United States-Bahrain Free Trade Agreement Implementation Act (the “USBFTA Act”) (19 U.S.C. 3805 note), the staged reductions in rates of duty that the President determined to be necessary or appropriate to carry out or apply articles 2.3, 2.5, 2.6, 3.2.8, and 3.2.9, and the schedule of reductions with respect to Bahrain set forth in Annex 2-B of the USBFTA. In order to ensure the continuation of such staged reductions in rates of duty for originating goods under tariff categories that are being modified to reflect the amendments to the Convention, I have determined that additional modifications to the HTS are necessary or appropriate to carry out the duty reductions previously proclaimed.

11. Presidential Proclamation 8332 of December 29, 2008, implemented the United States-Oman Free Trade Agreement (USOFTA) with respect to the United States and, pursuant to section 201 of the United States-Oman Free Trade Agreement Implementation Act (the “USOFTA Act”) (19 U.S.C. 3805 note), the staged reductions in duty that the President determined to be necessary or appropriate to carry out or apply articles 2.3, 2.5, 2.6, 3.2.8, and 3.2.9, and the schedule of duty reductions with respect to Oman set forth in Annex 2-B of the USOFTA. In order to ensure the continuation of such staged reductions in rates of duty for originating goods under tariff categories that are being modified to reflect the amendments to the Convention, I have determined that additional modifications to the HTS are necessary or appropriate to carry out the duty reductions previously proclaimed.

12. Presidential Proclamation 8341 of January 16, 2009, implemented the United States-Peru Trade Promotion Agreement (USPTPA) with respect to the United States and, pursuant to section 201 of the United States-Peru Trade Promotion Agreement Implementation Act (the “USPTPA Act”) (19 U.S.C. 3805 note), the staged reductions in duty that the President determined to be necessary or appropriate to carry out or apply articles 2.3, 2.5, 2.6, 3.3.13, and Annex 2.3 of the USPTPA. In order to ensure the continuation of such staged reductions in rates of duty for originating goods under tariff categories that are being modified to reflect the amendments to the Convention, I have determined that additional modifications to the HTS are necessary or appropriate to carry out the duty reductions previously proclaimed.

13. Section 604 of the Trade Act of 1974, as amended (the “Trade Act”) (19 U.S.C. 2483), authorizes the President to embody in the HTS the substance of the provisions of that Act, or other acts affecting import treatment, and actions taken thereunder, including the removal, modification, continuance, or imposition of any rate of duty or other import restriction. Section 1206(c) of the 1988 Act (19 U.S.C. 3006(c)) provides that any modifications proclaimed by the President under section 1206(a) of that Act may not take effect before the thirtieth day after the date on which the text of the proclamation is published in the Federal Register.

NOW, THEREFORE, I, BARACK OBAMA, President of the United States of America, by virtue of the authority vested in me by the Constitution and the laws of the United States, including but not limited to sections 1102 and 1206 of the 1988 Act, section 111 of the URAA, section 201 of the USSFTA Act, section 201 of the CFTA Act, section 201 of the USAFTA Act, section 201 of the USMFTA Act, section 201 of the CAFTA-DR Act, section 201 of the USBFTA Act, section 201 of the USOFTA Act, section 201 of the USPTPA Act, section 604 of the Trade Act, and section 301 of title 3, United States Code, do proclaim that:

(1) In order to modify the HTS to conform it to the Convention or any amendment thereto recommended for adoption, to promote the uniform application of the Convention, to establish additional subordinate tariff categories, and to make technical and conforming changes to existing provisions, the HTS is modified as set forth in Annex I of Publication 4276 of the United States International Trade Commission, entitled, “Modifications to the Harmonized Tariff Schedule of the United States Under Section 1206 of the Omnibus Trade and Competitiveness Act of 1988,” which is incorporated by reference into this proclamation.

(2) In order to provide for the continuation of previously proclaimed staged duty reductions in the Rates of Duty 1 Special subcolumn for originating goods of Singapore under the USSFTA that are classifiable in the provisions modified by Annex I of Publication 4276 and entered, or withdrawn from warehouse for consumption, on or after the dates specified in subsections F1 and F2 of Annex II of Publication 4276,

(a) the rate of duty in the HTS set forth in the Rates of Duty 1 Special subcolumn for each of the HTS subheadings enumerated in subsection F1 of Annex II shall be deleted and the rate of duty provided in such subsection followed by the symbol (“SG”) inserted in lieu thereof; and

(b) the Rates of Duty 1 Special subcolumn for each of the subheadings enumerated in subsection F2 shall be modified as set forth in that subsection of Annex II.

(3) In order to provide for the continuation of previously proclaimed staged duty reductions in the Rates of Duty 1 Special subcolumn for originating goods of Chile under the USCFTA that are classifiable in the provisions modified by Annex I of Publication 4276 and entered, or withdrawn from warehouse for consumption, on or after each of the dates specified in subsections C1 and C2 of Annex II of Publication 4276,

(a) the rate of duty in the HTS set forth in the Rates of Duty 1 Special subcolumn for each of the HTS subheadings enumerated in subsection C1 of Annex II shall be deleted and the rate of duty provided in such subsection followed by the symbol (“CL”) inserted in lieu thereof; and

(b) the Rates of Duty 1 Special subcolumn for each of the subheadings enumerated in subsection C2 shall be modified as set forth in that subsection of Annex II.

(4) In order to provide for the continuation of previously proclaimed staged duty reductions in the Rates of Duty 1 Special subcolumn for originating goods of Australia under the USAFTA that are classifiable in the provisions modified by Annex I of Publication 4276 and entered, or withdrawn from warehouse for consumption, on or after each of the dates specified in subsections A1 through A4 of Annex II of Publication 4276,

(a) the rate of duty in the HTS set forth in the Rates of Duty 1 Special subcolumn for each of the HTS subheadings enumerated in section A1 of Annex II shall be deleted and the rate of duty provided in such subsection followed by the symbol (“AU”) inserted in lieu thereof;

(b) the Rates of Duty 1 Special subcolumn for each of the subheadings enumerated in subsections A2 shall be modified as set forth in that subsection of Annex II;

(c) the Rates of Duty 1 Special subcolumn for the subheading enumerated in subsection A3 shall be modified as set forth in that subsection of Annex II; and

(d) the Rates of Duty 1 Special subcolumn for each of the subheadings enumerated in subsection A4 shall be modified as set forth in that subsection of Annex II.

(5) In order to provide for the continuation of previously proclaimed staged duty reductions in the Rates of Duty 1 Special subcolumn for originating goods of Morocco under the USMFTA that are classifiable in the provisions modified by Annex I of Publication 4276 and entered, or withdrawn from warehouse for consumption, on or after each of the dates specified in sections G1 through G4 of Annex II of Publication 4276,

(a) the rate of duty in the HTS set forth in the Rates of Duty 1 Special subcolumn for each of the HTS subheadings enumerated in subsection section G1 of Annex II shall be deleted and the rate of duty provided in such section followed by the symbol (“MA”) inserted in lieu thereof;

(b) the Rates of Duty 1 Special subcolumn for each of the subheadings enumerated in subsection G2 shall be modified as set forth in that subsection of Annex II;

(c) the Rates of Duty 1 Special subcolumn for each of the subheadings enumerated in subsection G3 shall be modified as set forth in that subsection of Annex II; and

(d) the Rates of Duty 1 Special subcolumn for the subheadings enumerated in subsection G4 shall be modified as set forth in that subsection of Annex II.

(6) In order to provide for the continuation of previously proclaimed staged duty reductions in the Rates of Duty 1 Special subcolumn for originating goods under general note 29 to the HTS that are classifiable in the provisions modified by Annex I of Publication 4276 and entered, or withdrawn from warehouse for consumption, on or after each of the dates specified in sections D and I of Annex II of Publication 4276,

(a) the rate of duty in the HTS set forth in the Rates of Duty 1 Special subcolumn for each of the HTS subheadings enumerated in section D of Annex II shall be deleted and the rate of duty provided in such section followed by the symbol (“P”) inserted in lieu thereof; and

(b) the Rates of Duty 1 Special subcolumn for each of the subheadings enumerated in section I shall be modified as set forth in that section of Annex II.

(7) In order to provide for the continuation of previously proclaimed staged duty reductions in the Rates of Duty 1 Special subcolumn for originating goods of Bahrain under the USBFTA that are classifiable in the provisions modified by Annex I of Publication 4276 and entered, or withdrawn from warehouse for consumption, on or after each of the dates specified in subsections B1 and B2 of Annex II of Publication 4276,

(a) the rate of duty in the HTS set forth in the Rates of Duty 1 Special subcolumn for each of the HTS subheadings enumerated in section B1 of Annex II shall be deleted and the rate of duty provided in such section followed by the symbol (“BH”) inserted in lieu thereof; and

(b) the Rates of Duty 1 Special subcolumn for each of the subheadings enumerated in subsection B2 shall be modified as set forth in that subsection of Annex II.

(8) In order to provide for the continuation of previously proclaimed staged duty reductions in the Rates of Duty 1 Special subcolumn for originating goods of Oman under the USOFTA that are classifiable in the provisions modified by Annex I of Publication 4276 and entered, or withdrawn from warehouse for consumption, on or after each of the dates specified in subsections E1 and E2 of Annex II of Publication 4276,

(a) the rate of duty in the HTS set forth in the Rates of Duty 1 Special subcolumn for each of the HTS subheadings enumerated in subsection E1 of Annex II shall be deleted and the rate of duty provided in such section followed by the symbol (“OM”) inserted in lieu thereof; and

(b) the Rates of Duty 1 Special subcolumn for each of the subheadings enumerated in subsection E2 shall be modified as set forth in that subsection of Annex II.

(9) In order to provide for the continuation of previously proclaimed staged duty reductions in the Rates of Duty 1 Special subcolumn for originating goods of Peru under the USPTPA that are classifiable in the provisions modified by Annex I of Publication 4276 and entered, or withdrawn from warehouse for consumption, on or after each of the dates specified in section H of Annex II of Publication 4276, the rate of duty in the HTS set forth in the Rates of Duty 1 Special subcolumn for each of the HTS subheadings enumerated in section H of Annex II shall be deleted and the rate of duty provided in such section followed by the symbol (“PE”) inserted in lieu thereof.

(10) The United States Trade Representative is authorized to fulfill my obligations under section 103 of the USSFTA, section 103 of the USCFTA, section 104 of the USAFTA, section 104 of the USMFTA, section 104 of the USBFTA, and section 104 of the USOFTA to obtain advice from the appropriate advisory committees and the Commission on the proposed implementation of an action by presidential proclamation; to submit a report on such proposed action to the appropriate congressional committees; and to consult with those congressional committees regarding the proposed action.

(11) Any provisions of previous proclamations and Executive Orders that are inconsistent with the actions taken in this proclamation are superseded to the extent of such inconsistency.

IN WITNESS WHEREOF, I have hereunto set my hand this twenty-ninth day of December, in the year of our Lord two thousand eleven, and of the Independence of the United States of America the two hundred and thirty-sixth.

[FR Doc. 2012-00020

Filed 1-3-12; 11:15 am]

Billing code 3295-F2-P